DEPARTMENT OF AGRICULTURE

Food Safety and Inspection Service

[Docket No. 00-053N]

Codex Alimentarius Commission: Meeting of the Codex Committees on Fats and Oils and Methods of Analysis and Sampling

AGENCY: Office of the Under Secretary for Food Safety, USDA.

ACTION: Notice of public meeting and request for comments.

SUMMARY: The Office of the Under Secretary for Food Safety, U.S. Department of Agriculture (USDA) and the Food and Drug Administration (FDA), U.S. Department of Health and Human Services (HHS) are sponsoring a public meeting on Wednesday, January 17, 2001. The objective of the public meeting is to provide information and receive public comments on agenda items and draft United States' positions that will be discussed at two upcoming Codex Committee meetings. The Under Secretary for Food Safety and FDA recognize the importance of providing interested parties the opportunity to obtain background information on the Sessions of the Codex Committee on Fats and Oils (CCFO) and the Codex Committee on Methods of Analysis and Sampling (CCMAS) and to address items on the agenda.

DATES: The public meeting is scheduled for Wednesday, January 17, 2001, from 9:00 a.m. to 12:00 noon.

ADDRESSES: The public meeting will be held in Room 1813, Federal Office Building 8, Food and Drug Administration, 200 C Street, SW., Washington, DC 20204. To receive copies of the documents referenced in this notice, contact the FSIS Docket Room, U.S. Department of Agriculture, Food Safety and Inspection Service, Room 102 Cotton Annex, 300 12th Street, SW., Washington, DC 20250-3700. The documents will also be accessible via the world wide web at the following address: http://www.fao.org/waicent/faoinfo/economic/esn/codex.

Submit one original and two copies of written comments to the FSIS Docket Room at the address above and reference docket number 00-053N. All comments submitted in response to this notice will be available for public inspection in the FSIS Docket Room between 8:30 a.m. and 4:30 p.m., Monday through Friday.

FOR FURTHER INFORMATION CONTACT: Patrick J. Clerkin, Assistant U.S. Manager for Codex, U.S. Codex Office, FSIS, Room 4861, South Agriculture Building, 14th Street and Independence Avenue, SW., Washington, DC 20250. Telephone (202) 205-7760; Fax (202) 720-3157. Persons requiring a sign language interpreter or other special accommodations should notify Mr. Clerkin at the above number.

SUPPLEMENTARY INFORMATION:

Background

The Codex Alimentarius Commission (Codex) was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The public meeting announced in this notice will provide information and an opportunity for public comment on two upcoming Codex Committee meetings:

• Seventeenth Session of the Codex Committee on Fats and Oils (CCFO) that will be held in London, United Kingdom, February 19-23, 2001.

• Twenty-third Session of the Codex Committee on Methods of Analysis and Sampling (CCMAS) that will be held in Budapest, Hungary, February 26-March 2, 2001.

The CCFO was established to elaborate worldwide standards for fats and oils and their products. The CCMAS performs multiple functions such as defining criteria appropriate to Codex methods of analysis and sampling, specifying reference methods of analysis and sampling, endorsing methods of analysis and sampling proposed by the Codex Committees, elaborating sampling plans, and considering specific sampling and analysis problems. The Government of the United Kingdom will chair the CCFO meeting and the Government of Hungary will chair the CCMAS meeting.

Issues To Be Discussed at the Public Meeting

The U.S. delegate for the Codex Committee on Methods Analysis and Sampling will discuss the following subjects at the public meeting from 9:00 a.m. to 10:30 a.m.

Agenda item | Subject matter | Document reference
1 | Adoption of the Agenda
2 | Matters referred to the committee | CX/MAS 01/2.
3 | Proposed draft general guidelines on sampling at step 4 | CX/MAS 01/3.
4 | Criteria for evaluating acceptable methods of analysis for Codex purposes | CX/MAS 01/4.
| (a) Proposed draft guidelines on the application of the criteria approach at step 4 | CX/MAS 01/4, Add. 1.
| (b) Amendments to the procedural manual of the Codex Alimentarius Commission relevant to the criteria approach | ALINORM 99/23, Appendix II.
| —Principles for the establishment of Codex methods of analysis and sampling
| —Relations between commodity committees and general committees
5 | Consideration of harmonized guidelines for the use of recovery information in analytical measurements | CX/MAS, 01/6.
6 | Harmonization of analytical terminology in accordance with international standards: “measurement limits” | CX/MAS, 01/7.
7 | Measurement uncertainty
| (a) Progress report by relevant Organizations
| (b) Relationship between the analytical result, the measurement uncertainty and the specification in the Codex standard | CX/MAS, 01/8.
8 | In-house method validation | CX/MAS, 01/9.
9 | Endorsement of methods of analysis provisions in Codex standards | CX/MAS, 01/10.

The U.S. delegate for the Codex Committee on Fats and Oils will discuss the following subjects at the public meeting from 10:30 a.m. to 12:00 noon.

Agenda item | Subject matter | Document reference
1 | Adoption of the Agenda
2 | Matters referred to the Committee | CX/FO, 01/2.
3 | Draft revised standard for olive oils and olive pomace oils at step 7 | CL 2000/32-FO.
4 | Proposed draft amendments to the standard for named vegetable oils (including provisions for high oleic acid safflower oil and high oleic sunflower oil at step 4) | CL 2000/25-FO, CL 2000/25 A, FO.
5 | Proposed draft standard for fat spreads and blended spreads at step 3 | ALINORM 99/1, Appendix VI.
6 | Proposed draft amendment to the code of practice for the storage and transport of edible fats and oils in bulk: lists of acceptable previous cargoes and lists of banned immediate previous cargoes at step 4 | CL 2000/26-FO, Part I and II.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC, on: January 9, 2001.
F. Edward Scarbrough,
U.S. Manager for Codex Alimentarius.

[FR Doc. 01-1157 Filed 1-12-01; 8:45 am]

BILLING CODE 3410-DM-P